DEPARTMENT OF HOMELAND SECURITY

Transportation Security Administration

Notice of Intent To Request Approval From the Office of Management and Budget (OMB) for a Public Collection of Information; Passengers With Disabilities Screening Program Performance Survey

AGENCY: Transportation Security Administration (TSA), DHS.

ACTION: Notice.

SUMMARY: TSA invites public comment on a new information collection requirement abstracted below that will be submitted to OMB for approval in compliance with the Paperwork Reduction Act.

DATES: Send your comments by July 19, 2004.

ADDRESSES: Comments may be mailed or delivered to Kathleen Blank, Office of Transportation Security Policy, TSA-9, 601 South 12th Street, Arlington, VA 22202.

FOR FURTHER INFORMATION CONTACT: Kathleen Blank at the above address or by telephone (571) 227-3254; facsimile (571) 227-1374; or e-mail Kathleen.Blank@dhs.gov.

SUPPLEMENTARY INFORMATION: In accordance with the Paperwork Reduction Act of 1995 (44 U.S.C. 3501, et seq.), a Federal agency may not conduct or sponsor, and a person is not required to respond to a collection of information unless it displays a valid OMB control number. Therefore, in preparation for submission to obtain clearance of the following information collection, TSA solicits comments in order to—

(1) Evaluate whether the proposed information requirement is necessary for the proper performance of TSA functions, including whether the information will have practical utility;

(2) Evaluate the accuracy of TSA's estimate of the burden;

(3) Enhance the quality, utility, and clarity of the information to be collected; and

(4) Minimize the burden of the collection of information on those who are to respond, including through the use of appropriate automated, electronic, mechanical, or other technological collection techniques or other forms of information technology.

Purpose of Data Collection

TSA has implemented a number of standard operating procedures to screen passengers with disabilities who travel by commercial airline and proceed through passenger security checkpoints at airports. TSA seeks to be a performance-based organization—one that evaluates programs and measures its performance based on credible, objective data. For functions that involve public interaction, such as screening of air travelers, TSA believes that it is imperative to include the opinion of the passengers served as part of our performance measurement.

TSA already conducts population-wide passenger surveys and collects passenger complaints and compliments at the airport and through the TSA Contact Center. We now seek to collect data from passengers with disabilities to evaluate whether screeners are implementing the standard operating procedures properly. We also seek to determine whether passengers with disabilities feel that TSA is treating them with respect and attention to their needs while keeping air travel secure.

Description of Data Collection

TSA intends to collect data via a passenger satisfaction survey distributed by TSA screeners to passengers with disabilities at the conclusion of the screening process. Screeners will be trained to provide the survey to passengers and request their voluntary participation to measure and improve TSA's service. This 10-minute survey will be provided to an expected 30,000 passengers (approximately 300 passengers at each of the 82 major airports, plus a sample from members of stakeholder groups) for an estimated total burden of 5,000 hours. Results will be anonymous, but will be linked to the airport at which the service occurred to help TSA identify high- and low-performing airports.

TSA screeners at the 82 largest airports, which account for approximately 90% of total passengers screened, will distribute the surveys over a two-month period each time a passenger with disabilities is screened. The survey will be self-addressed and postage-paid so that the passenger can return it to TSA at their convenience. Alternatively, passengers may return the survey directly to the TSA screener, if they choose to complete it at the airport. TSA will also distribute surveys to advocacy groups that have worked with us to develop the standard operating procedures for screening passengers with disabilities. These groups will distribute surveys to their members to be returned to TSA.

The survey will seek feedback on TSA's standard procedures for screening (1) passengers with hearing, vision, mobility, and hidden disabilities, as well as other medical conditions, and (2) the assistive devices, equipment, aids, and supplies accompanying passengers in each category. It will ask questions designed to measure whether the standard operating procedures are being met, to assess overall satisfaction and confidence with the screening process, and to help TSA understand its performance in different demographic areas. It will also have space for open-ended comments if passengers wish to provide additional feedback to TSA. The survey will include the mailing address, e-mail address, and phone number of the TSA Screening of Persons with Disabilities Program Office in case passengers have additional questions or want to provide additional information.

Use of Results

TSA personnel from Headquarters and individual airports will use the results to evaluate and improve service to passengers with disabilities. We will analyze questions related to various elements of the standard operating procedures, with respect to each of the four disability types, and with respect to other relevant demographics. The results will not be statistically representative of any population beyond the sample of survey respondents, but will present a relatively comprehensive snapshot of TSA's screening of passengers with disabilities during the two-month period of data collection. The results also will be part of the DHS annual reporting to Congress under the Government Performance and Results Act (GPRA). The TSA Screening of Persons with Disabilities Program is one of the department's top four disability initiatives for this year to ensure the inclusion of people with disabilities in the workforce, operations, and programs.

Issued in Arlington, Virginia, on May 11, 2004.
Susan T. Tracey,
Chief Administrative Officer.

[FR Doc. 04-11141 Filed 5-17-04; 8:45 am]

BILLING CODE 4910-62-P